ENVIRONMENTAL PROTECTION AGENCY

40 CFR Part 62

[ R01-OAR-2004-ME-0002b; A-1-FRL-7876-7]

Approval and Promulgation of Air Quality Implementation Plans; Maine; Control of Total Reduced Sulfur From Kraft Pulp Mills

AGENCY: Environmental Protection Agency (EPA).

ACTION: Proposed rule.

SUMMARY: The EPA is proposing to approve a revision to Maine's plan for controlling air pollution according to section 111(d) of the Clean Air Act (i.e., a “111(d) plan”). This revision changes state regulations controlling the emission of total reduced sulfur (“TRS”) from existing kraft paper mills by making April 17, 2007 the compliance date for brownstock washers. This action is being taken in accordance with section 111(d) of the Clean Air Act (“CAA”).

DATES: Written comments must be received on or before March 31, 2005.

ADDRESSES: Comments may be mailed to Lucy Edmondson, Unit Manager, Air Permits, Toxics and Indoor Program Unit, Office of Ecosystem Protection (mail code CAP), U.S. Environmental Protection Agency, EPA New England Regional Office, One Congress Street, Suite 1100, Boston, MA 02114-2023. Comments may also be submitted electronically, or through hand delivery/courier, please follow the detailed instructions (Part (I)(B)(1)(i) through (iii) of the SUPPLEMENTARY INFORMATION section) described in the direct final rule which is located in the Rules Section of this Federal Register.

FOR FURTHER INFORMATION CONTACT: Ian D. Cohen, Air Permits, Toxics, and Indoor Air Programs Unit, U.S. Environmental Protection Agency, EPA New England Regional Office, One Congress Street, Suite 1100 (CAP), Boston, MA 02114-2023, cohen.ian@epa.gov.

SUPPLEMENTARY INFORMATION: In the Final Rules Section of this Federal Register, EPA is approving the State's submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: February 10, 2005.
Robert W. Varney,
Regional Administrator, EPA New England.

[FR Doc. 05-3909 Filed 2-28-05; 8:45 am]

BILLING CODE 6560-50-P